FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of the agreements are available through the Commission's website (www.fmc.gov) or by contacting the Office of Agreements at (202) 523-5793 or tradeanalysis@fmc.gov.

Agreement No.: 011284-084.

Agreement Name: Ocean Carrier Equipment Management Association.

Parties: Maersk A/S and Hamburg Sud (acting as a single party); CMA CGM S.A., APL Co. Pte. Ltd., and American President Lines, Ltd. (acting as a single party); COSCO SHIPPING Lines Co., Ltd.; Evergreen Line Joint Service Agreement; Ocean Network Express Pte. Ltd.; Hapag-Lloyd AG and Hapag-Lloyd USA LLC (acting as a single party); HMM Company Limited; Zim Integrated Shipping Services Ltd.; MSC Mediterranean Shipping Company S.A.; Wan Hai Lines Ltd.

Filing Party: Joshua Stein; Cozen O'Connor.

Synopsis: The Amendment makes changes to the titles of persons designated in the Agreement by allowing for the appointment of co-chairmen; and deletes Hamburg-Sudamerikanische Dampfschifffahrtsgesellschaft KG as a party to the Agreement.

Proposed Effective Date: 2/13/2025.

Location: https://www2.fmc.gov/FMC.Agreements.Web/Public/AgreementHistory/1560.

Agreement No.: 012208-005.

Agreement Name: Hoegh/Grimaldi Space Charter Agreement.

Parties: Grimaldi Deep Sea S.P.A. and Grimaldi Euromed S.p.A. (acting as a single party); and Hoegh Autoliners AS.

Filing Party: Wayne Rohde, Cozen O'Connor.

Synopsis: The Amendment revises Article 4 of the Agreement to expand the scope of the Agreement to cover all trades to/from the United States.

Proposed Effective Date: 2/11/2025.

Location: https://www2.fmc.gov/FMC.Agreements.Web/Public/AgreementHistory/256.

Dated: February 14, 2025.
Alanna Beck,
Federal Register Alternate Liaison Officer.

[FR Doc. 2025-02849 Filed 2-19-25; 8:45 am]

BILLING CODE 6730-02-P